ENVIRONMENTAL PROTECTION AGENCY

[FRL-9256-7]

Science Advisory Board Staff Office; Notification of a Public Meeting of the Science Advisory Board Clean Air Scientific Advisory Committee, Air Monitoring and Methods Subcommittee

AGENCY: Environmental Protection Agency (EPA).

ACTION: Notice.

SUMMARY: The Environmental Protection Agency (EPA or Agency) Science Advisory Board (SAB) Staff Office announces a public face-to-face meeting of the SAB Clean Air Scientific Advisory Committee (CASAC) Air Monitoring and Methods Subcommittee (AMMS) to conduct a review of EPA's draft monitoring documents for Oxides of Nitrogen (NOX) and Sulfur (SOX).

DATES: The meeting will be held on February 16, 2011 from 10:30 a.m. to 5:30 p.m. (Eastern Time).

ADDRESSES: The Committee meeting will be held at the Carolina Inn, 211 Pittsboro Street, Chapel Hill, NC 27516.

FOR FURTHER INFORMATION CONTACT: Any member of the public wishing further information regarding this Notice and Request for Nominations may contact Mr. Edward Hanlon, Designated Federal Officer (DFO), SAB Staff Office, by telephone/voice mail at (202) 564-2134; by fax at (202) 565-2098 or via e-mail at hanlon.edward@epa.gov. General information concerning the EPA CASAC can be found at the EPA CASAC Web site at http://www.epa.gov/casac. Any inquiry regarding EPA's draft monitoring documents for NOX and SOX should be directed to Mr. Richard Scheffe, EPA Office of Air Quality Planning and Standards (OAQPS) at scheffe.rich@epa.gov or 919-541-4650.

SUPPLEMENTARY INFORMATION:

Background: Pursuant to the Federal Advisory Committee Act, 5 U.S.C., App. 2 (FACA), notice is hereby given that the SAB CASAC AMMS will hold a public meeting to evaluate and comment on EPA's draft monitoring documents for NOX and SOX. The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal Advisory Committee chartered under FACA. The CASAC will comply with the provisions of FACA and all appropriate SAB Staff Office procedural policies.

EPA's Section 109(d)(1) of the Clean Air Act requires that the Agency periodically review and revise, as appropriate, the air quality criteria and the National Ambient Air Quality Standard (NAAQS) for the six “criteria” air pollutants. EPA's Office of Air Quality Planning and Standards (OAQPS) has requested independent review and CASAC advice regarding EPA's draft monitoring documents for NOX and SOX and proposed methods for assessing levels of nitrogen and sulfur deposition.

The SAB Staff Office previously announced (75 FR 64726-64727, October 20, 2010) it was forming a new Subcommittee of the CASAC to provide independent expert advice on air pollution monitoring and methods issues through the chartered CASAC. At the February 16, 2011 meeting, the CASAC AMMS will evaluate and comment on EPA's draft monitoring documents for NOX and SOX.

Availability of Meeting Materials: The agenda and EPA's draft monitoring documents for NOX and SOX will be available on the CASAC Web site at http://www.epa.gov/casac in advance of the meeting.

Interested members of the public may submit relevant written or oral information on the topic of this advisory activity for the CASAC to consider during the advisory process.

Oral Statements: In general, individuals or groups requesting an oral presentation at this public meeting will be limited to five minutes per speaker, with no more than a total of one hour for all speakers. Interested parties should contact Mr. Edward Hanlon, DFO, in writing (preferably via e-mail), at the contact information noted above, by February 10, 2011 to be placed on the list of public speakers for the meeting. Written Statements: Written statements should be received in the SAB Staff Office by February 10, 2011 so that the information may be made available to the CASAC AMMS for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Mr. Edward Hanlon at the phone number or e-mail address noted above, preferably at least ten days prior to the meeting, to give EPA as much time as possible to process your request.

Dated: January 19, 2011.
Anthony F. Maciorowski,
Deputy Director, EPA Science Advisory Board Staff Office.

[FR Doc. 2011-1472 Filed 1-24-11; 8:45 am]

BILLING CODE 6560-50-P